DEPARTMENT OF THE INTERIOR

Fish and Wildlife Service

Recovery Plan for the Quino Checkerspot Butterfly

AGENCY: Fish and Wildlife Service, Interior.

ACTION: Notice of document availability.

SUMMARY: The U.S. Fish and Wildlife Service (“we”) announces the availability of the final Recovery Plan for the Quino Checkerspot Butterfly (Euphydryas editha quino). The Quino checkerspot butterfly is a subspecies that is currently restricted primarily to clay and granitic soils at lower elevation slopes typically below 1,400 meters (4,600 feet) in open scrub, chaparral, and woodland communities. The populations addressed in this recovery plan are found in western Riverside and southern San Diego Counties proximal to the Mexico international border.

ADDRESSES: Copies of this final recovery plan are available by written request to the Field Supervisor, U.S. Fish and Wildlife Service, Carlsbad Fish and Wildlife Office, 6010 Hidden Valley Road, Carlsbad, California 92009, or by calling 760-431-9440. An electronic copy of this recovery plan is also available at: http://endangered.fws.gov/recovery/index.html#plans.

FOR FURTHER INFORMATION CONTACT: Alison Anderson, at the above Carlsbad address and telephone number.

SUPPLEMENTARY INFORMATION:

Background

Recovery of endangered or threatened animals and plants is a primary goal of our endangered species program and the Endangered Species Act (Act) (16 U.S.C. 1531 et seq.). Recovery means improvement of the status of listed species to the point at which listing is no longer appropriate under the criteria set out in section 4(a)(1) of the Act. Recovery plans describe actions considered necessary for the conservation of the species, establish criteria for downlisting or delisting listed species, and estimate time and cost for implementing the measures needed for recovery.

The Act requires the development of recovery plans for listed species unless such a plan would not promote the conservation of a particular species. Section 4(f) of the Act requires that public notice, and an opportunity for public review and comment, be provided during recovery plan development. Information presented during the public comment period has been considered in the preparation of this final recovery plan, and is summarized in the appendix to the recovery plan. We will forward substantive comments regarding recovery plan implementation to appropriate Federal or other entities so that they can take these comments into account during the course of implementing recovery actions.

The Quino checkerspot butterfly is found in association with topographically diverse open woody canopy landscapes that contain low to moderate levels of non-native vegetation compared to disturbed habitat. Vegetation types that support the Quino checkerspot are coastal sage scrub, open chaparral, juniper woodland, forblands, and native grassland. Soil and climatic conditions, as well as ecological and physical factors, affect the suitability of habitat within the species' range. Urban and agricultural development, invasion of non-native species, habitat fragmentation and degradation, increased fire frequency, and other human-caused disturbances have resulted in substantial losses of habitat throughout the species' historic range. Conservation needs include: (1) Protection and management of suitable and restorable habitat; (2) habitat restoration and enhancement; and (3) establishment of a Quino checkerspot captive breeding program. This plan identifies six recovery units. Recovery units are geographically bounded areas containing extant Quino checkerspot populations that are the focus of recovery actions.

The overall objective of this recovery plan is to reduce the threats to the Quino checkerspot butterfly to the point where it can be reclassified (downlisted) to threatened and ensure the species' long-term conservation. Interim goals include: (1) Protect and manage habitat supporting known current population distributions (occurrence complexes); (2) maintain or create resilient populations; and (3) conduct research necessary to refine recovery criteria.

Downlisting of the Quino checkerspot butterfly is contingent upon the following criteria: (1) Permanently protect habitat within occurrence complexes in a configuration designed to support resilient populations; (2) conduct research on population distribution and dynamics; (3) permanently provide for and implement management of occurrence complexes to restore habitat quality and population resilience; (4) demonstrate evidence of population resilience in core occurrence complexes; (5) document or introduce an additional population in the Lake Matthews site, and demonstrate population resilience for at least one population outside current recovery units; (6) establish and maintain a captive propagation program for purposes of re-introduction and augmentation of wild populations, maintenance of refugia populations, and research; and (7) initiate and implement a cooperative outreach program targeting areas where Quino checkerspot populations are most threatened.

Authority

The authority for this action is section 4(f) of the Endangered Species Act, 16 U.S.C. 1533(f).

Dated: August 11, 2003.
Steve Thompson,
Manager, California/Nevada Operations Office, Region 1, U.S. Fish and Wildlife Service.

[FR Doc. 03-23684 Filed 9-16-03; 8:45 am]

BILLING CODE 4310-55-P